OCCUPATIONAL SAFETY AND HEALTH REVIEW COMMISSION

Senior Executive Service Performance Review Board Membership

AGENCY: Occupational Safety and Health Review Commission (OSHRC).

ACTION: Notice of Senior Executive Service Performance Review Board Membership.

Title 5, U.S. Code, section 4314(c)(4), The Civil Service Reform Act of 1978, Public Law 95-454 (section 405) requires that the appointment of Performance Review Board (PRB) members be published in the Federal Register.

As required by 5 CFR 430.310, Chairman W. Scott Railton has appointed the following executives to serve on the Senior Executive Service Performance Review Board for the Occupational Safety and Health Review Commission beginning September 2005 through September 2007:

Stephen S. Smith, Associated Director for Management, Broadcasting Board of Governors,

Christopher W. Warner, General Counsel, U.S. Chemical Safety and Hazard Investigator Board,

Richard L. Baker, Executive Director, Federal Mine Safety and Health Review Commission,

Marcel C. Acosta, Deputy Executive Director, National Capital Planning Commission,

Jill Crumpacker, Chief of Staff/Director of Policy and Performance Management, U.S. Federal Labor Relations Authority,

Thomas Stock, General Counsel, Federal Mine Safety and Health Review Commission.

The PRB will make recommendations to the Chairman on the performance of the Commission's senior executives.

For information regarding this notice, please contact Alexander Fernández, General Counsel, Occupational Safety and Health Review Commission at (202) 606-5100.

Dated: September 9, 2005.
W. Scott Railton,
Chairman, Occupational Safety and Health Review Commission.

[FR Doc. 05-18773 Filed 9-20-05; 8:45 am]

BILLING CODE 7600-01-M